OFFICE OF THE UNITED STATES TRADE REPRESENTATIVE

[Docket No. USTR-2010-0025]

WTO Dispute Settlement Proceeding Regarding United States—Final Antidumping Measures on Stainless Steel from Mexico

AGENCY: Office of the United States Trade Representative.

ACTION: Notice; request for comments.

SUMMARY: The Office of the United States Trade Representative (“USTR”) is providing notice that pursuant to a request by Mexico under the Marrakesh Agreement Establishing the World Trade Organization (“WTO Agreement”), the Dispute Settlement Body of the World Trade Organization (“WTO”) has referred a matter concerning the dispute United States—Final Antidumping Measures on Stainless Steel from Mexico to a panel. The request may be found at http://www.wto.org in document WT/DS344/20. USTR invites written comments from the public concerning the issues raised in this dispute.

DATES: Although USTR will accept any comments received during the course of the dispute settlement proceedings, comments should be submitted on or before November 12, 2010, to be assured of timely consideration by USTR.

ADDRESSES: Comments should be submitted electronically to www.regulations.gov, docket number USTR-2010-0025. If you are unable to provide submissions by http://www.regulations.gov, please contact Sandy McKinzy at (202) 395-9483 to arrange for an alternative method of transmission. If (as explained below), the comment contains confidential information, then the comment should be submitted by fax only to Sandy McKinzy at (202) 395-3640.

FOR FURTHER INFORMATION CONTACT: María L. Pagán, Associate General Counsel, Office of the United States Trade Representative, 600 17th Street, NW., Washington, DC 20508, (202) 395-7305.

SUPPLEMENTARY INFORMATION: USTR is providing notice that the Dispute Settlement Body (“DSB”) has, at the request of Mexico, referred a matter to a dispute settlement panel pursuant to the WTO Understanding on Rules and Procedures Governing the Settlement of Disputes (“DSU”). The panel will hold any meetings with the parties to the dispute in Geneva, Switzerland.

Major Issues Raised by Mexico

In its request for the establishment of a panel, Mexico alleges that the United States has not fully implemented the recommendations and rulings of the DSB in the dispute United States—Final Antidumping Measures on Stainless Steel from Mexico. The recommendations and rulings stem from the DSB's adoption of the panel and Appellate Body reports in that dispute, which can be found at http://www.wto.org in documents WT/DS344/R and WT/DS344/AB/R, respectively.

Mexico states that the DSB made recommendations and rulings that the use of simple zeroing in administrative reviews is “as such” inconsistent with Article VI:2 of the GATT 1994 and Article 9.3 of the Antidumping Agreement. Mexico alleges that the United States has taken no steps to eliminate simple zeroing in administrative reviews, thereby failing to implement the DSB's recommendations and rulings in this regard by the end of the reasonable period of time (“RPT”) or thereafter. Mexico alleges that the United States continues to act inconsistently with Articles 17.14, 21.1, and 21.3 of the DSU, Articles 2.1, 2.4, and 9.3 of the Antidumping Agreement, and Article VI:2 of the GATT 1994.

In addition, Mexico states that the DSB made recommendations and rulings that the United States acted inconsistently with Article VI:2 of the GATT 1994 and Article 9.3 of the Antidumping Agreement by applying simple zeroing in five administrative reviews at issue in the dispute (identified as cases 1 through 5 in the Annex to Mexico's request). Mexico alleges that the margins of dumping calculated in these five administrative reviews continue to have legal effects after the end of the RPT and have been relied upon by the U.S. Department of Commerce (“USDOC”) in several subsequent closely connected measures, including in the 2005 and 2010 “sunset” reviews and in revocation decisions made in the context of subsequent antidumping administrative reviews, including the 7th and 9th administrative reviews. Mexico alleges that the United States has failed to adopt any measures by the end of the RPT or thereafter to implement the DSB's recommendations and rulings regarding the use of simple zeroing in administrative reviews 1 through 5, and therefore is acting inconsistently with Articles 17.14, 21.1, and 21.3 of the DSU, Articles 2.1, 2.4, and 9.3 of the Antidumping Agreement, and Article VI:2 of the GATT 1994.

Furthermore, Mexico alleges that the United States has failed to take action to bring certain “closely connected measures” into compliance with U.S. WTO obligations and, that by continuing to use simple zeroing in subsequent “closely connected measures,” has imposed, assessed, and/or collected antidumping duties in excess of the proper margin of dumping. Mexico alleges that the United States is therefore imposing duties on the importation of Mexican goods in excess of the duties permitted under the U.S. Schedule of Concessions and otherwise nullifies or impairs benefits accruing to Mexico under the covered agreements. Mexico alleges that as a result the United States is acting inconsistently with Articles 17.14, 21.1, and 21.3 of the DSU, Articles 2.1, 2.4, 9.3, 11.2, and 11.3 of the Antidumping Agreement, and Article VI:2 of the GATT 1994. The alleged “closely connected measures” are:

(i) The six subsequent administrative reviews of the same antidumping duty order on stainless steel sheet and strip in coils from Mexico (identified as cases 6 through 11 in the Annex to Mexico's request), and any subsequent amendments to the same, in which margins of dumping for cash deposit purposes and assessment amounts are calculated using simple zeroing;

(ii) The 2005 and 2010 five-year “sunset” reviews of the antidumping order on stainless steel sheet and strip in coils from Mexico (identified as cases 12 and 13 in the Annex to Mexico's request), and any subsequent amendments to the same, in which the USDOC relied upon margins of dumping calculated using simple zeroing;

(iii) All other subsequent closely connected measures taken by the United States in relation to the antidumping order on stainless steel sheet and strip in coils from Mexico in which USDOC calculated, or relied upon, margins of dumping calculated using simple zeroing or model zeroing, including the negative “absence of dumping” revocation determinations pursuant made in the 7th and 9th administrative reviews (identified as cases 7 and 9 in the Annex to Mexico's request), and any subsequent amendments to the same; and

(iv) Any other determinations and measures that derive mechanically from the measures described in paragraphs (i) to (iii) that bear a close nexus to the referenced five originally challenged administrative reviews including any instructions and notices issued pursuant thereto, and any subsequent amendments to the same.

Finally, Mexico alleges that U.S. measures taken to comply, if and to the extent they exist, are inconsistent with Articles 2.1, 2.4, 9.3, 11.2, and 11.3 of the Antidumping Agreement and Articles II:1(a), II:1(b), VI:1, and VI:2 of the GATT 1994.

Public Comment: Requirements for Submissions

Interested persons are invited to submit written comments concerning the issues raised in this dispute. Persons may submit public comments electronically to http://www.regulations.gov docket number USTR-2010-0025. If you are unable to submit comments using http://www.regulations.gov, please contact Sandy McKinzy at (202) 395-9483 to arrange for an alternative method of transmission.

To submit comments via http://www.regulations.gov, enter docket number USTR-2010-0025 on the home page and click “search.” The site will provide a search-results page listing all documents associated with this docket. Find a reference to this notice by selecting “Notice” under “Document Type” on the left side of the search results page, and click on the link entitled “Submit a Comment.” (For further information on using the http://www.regulations.gov Web site, please consult the resources provided on the Web site by clicking on the “Help” link at the top of the home page.)

The http://www.regulations.gov Web site provides the option of providing comments by filling in a “Type Comment and Upload File” field, or by attaching a document. It is expected that most comments will be provided in an attached document. If a document is attached, it is necessary and sufficient to type “See attached” in the “Type Comment and Upload File” field.

A person requesting that information contained in a comment submitted by that person be treated as business confidential information must certify that such information is business confidential and would not customarily be released to the public by the submitter. Business confidential information must be clearly designated as such and the submission must be marked “BUSINESS CONFIDENTIAL” at the top and bottom of the cover page and each succeeding page. Any comment containing business confidential information must be submitted by fax to Sandy McKinzy at (202) 395-3640. A non-confidential summary of the confidential information must be submitted to http://www.regulations.gov. The non-confidential summary will be placed in the docket and open to public inspection.

Information or advice contained in a comment submitted, other than business confidential information, may be determined by USTR to be confidential in accordance with section 135(g)(2) of the Trade Act of 1974 (19 U.S.C. 2155(g)(2)). If the submitter believes that information or advice may qualify as such, the submitter—

(1) Must clearly so designate the information or advice;

(2) Must clearly mark the material as “SUBMITTED IN CONFIDENCE” at the top and bottom of the cover page and each succeeding page; and

(3) Must provide a non-confidential summary of the information or advice.

Any comment containing confidential information must be submitted by fax to Sandy McKinzy at (202) 395-3640. A non-confidential summary of the confidential information must be submitted to www.regulations.gov. The non-confidential summary will be placed in the docket and open to public inspection.

USTR will maintain a docket on this dispute settlement proceeding accessible to the public. The public file will include non-confidential comments received by USTR from the public with respect to the dispute. If a dispute settlement panel is convened or in the event of an appeal from such a panel, the U.S. submissions, any non-confidential submissions, or non-confidential summaries of submissions, received from other participants in the dispute, will be made available to the public on USTR's Web site at http://www.ustr.gov, and the report of the panel, and, if applicable, the report of the Appellate Body, will be available on the Web site of the World Trade Organization, http://www.wto.org.

Comments will be placed in the docket and open to public inspection pursuant to 15 CFR 2006.13, except confidential business information exempt from public inspection in accordance with 15 CFR 2006.15 or information determined by USTR to be confidential in accordance with 19 U.S.C. 2155(g)(2). Comments open to public inspection may be viewed on the http://www.regulations.gov Web site.

Steven F. Fabry,
Assistant United States Trade Representative for Monitoring and Enforcement.

[FR Doc. 2010-25638 Filed 10-8-10; 8:45 am]

BILLING CODE 3190-W1-P